DEPARTMENT OF HOMELAND SECURITY

Office of the Secretary

[Docket No. DHS-2007-0014]

Notice of Meeting of National Infrastructure Advisory Council (NIAC)

AGENCY: Directorate for Preparedness, DHS.

ACTION: Notice of Meeting.

SUMMARY: The National Infrastructure Advisory Council (NIAC) will meet in open session.

DATES: Tuesday, April 10, 2007, from 1:30 p.m. to 4:30 p.m.

ADDRESSES: National Press Club, 529 14th Street, NW., Washington, DC 20045. You may submit comments, identified by DHS-2007-0014, by one of the following methods:

• Federal eRulemaking Portal: http://www.regulations.gov. Follow the instructions for submitting comments.

• E-mail: william.corcoran@associates.dhs.gov. When submitting comments electronically, please include by DHS-2007-0014, in the subject line of the message.

• Mail: Jenny Menna, Department of Homeland Security, Directorate for Preparedness, Washington, DC 20528. To ensure proper handling, please reference by DHS-2007-0014, on your correspondence. This mailing address may be used for paper, disk or CD-ROM submissions.

• Hand Delivery/Courier: Jenny Menna, Department of Homeland Security, Directorate for Preparedness, Washington, DC 20528. Contact Telephone Number 703-235-5352.

Instructions: All submission received must include the words “Department of Homeland Security” and DHS-2007-0014, the docket number for this action. Comments received will be posted without alteration at http://www.regulations.gov, including any personal information provided.

Docket: For access to the docket to read background documents or comments received, go to http://www.regulations.gov.

FOR FURTHER INFORMATION CONTACT: Jenny Menna, NIAC Designated Federal Officer, Department of Homeland Security, Washington, DC 20528; telephone 703-235-5352.

SUPPLEMENTARY INFORMATION: Notice of this meeting is given under the Federal Advisory Committee Act (FACA), Public 92-463, as amended (5 U.S.C. App.). AT this meeting, the NIAC will be briefed on the status of several Working Group activities in which the Council is currently engaged.

This meeting is open to the public on a first-come, first-served basis. Please note that the meeting may close early if all business is finished.

A tentative agenda for the meeting is set forth below, but may be updated. Please consult the NIAC Web site, http://www.dhs.gov/niac, for the most current agenda.

Information on Services for Individuals with Disabilities: For information on facilities or services for individuals with disabilities, or to requet special assistance at the meeting, telephone the Designated Federal Officer as soon as possible.

Dated: March 8, 2007.
Jenny Menna,
Designated Federal Officer for the NIAC.

Draft Agenda of April 10, 2007 Meeting
I. Opening of Meeting | Jenny Menna, Designated Federal Officer, NIAC, Department of Homeland Security (DHS).
II. Roll Call of Members | Jenny Menna.
III. Opening Remarks and Introductions | NIAC Chairman, Erle A. Nye, Chairman Emritus, TXU Corp.
| Michael Chertoff, Secretary, DHS (Invited).
| Frances Fragos Townsend, Assistant to the President for Homeland Security and Counterterrorism (Invited).
IV. Approval of April Minutes | NIAC Chairman, Erle A. Nye.
V. Working Group Status Updates | NIAC Chairman, Erle A. Nye Presiding.
A. Chemical, Biological, and Radiological Events and Critical Infrastructure Workers | Chief Rebecca F. Denlinger, Fire Chief, Cobb County, Georgia Fire and Emergency Services, NIAC Member, Martha H. Marsh, President and CEO, Stanford Hospital and Clinics, NIAC Member and Bruce Rohde, Chairman and CEO Emeritus, ConAgra Foods, Inc., NIAC Member.
B. The Insider Threat to Critical Infrastructure Control Systems | Edmund Archuleta, General Manager, El Paso Water Utilities, NIAC Member, and Thomas Noonan, General Manager, IBM Internet Security Systems, NIAC Member.
VI. New Business | NIAC Chairman, Erle A. Nye, NIAC Members.
VII. Adjournment | NIAC Chairman, Erle A. Nye.

[FR Doc. 07-1235 Filed 3-12-07; 4:35 pm]

BILLING CODE 4410-10-M